DEPARTMENT OF COMMERCE

National Oceanic and Atmospheric Administration

[RTID 0648-XF383]

South Atlantic Fishery Management Council; Public Meetings

AGENCY: National Marine Fisheries Service (NMFS), National Oceanic and Atmospheric Administration (NOAA), Commerce.

ACTION: Notice of the South Atlantic Fishery Management Council's Habitat and Ecosystem Advisory Panel meeting.

SUMMARY: The South Atlantic Fishery Management Council (Council) will hold a meeting of the Habitat and Ecosystem Advisory Panel on January 28-29, 2026.

DATES: The Habitat and Ecosystem Advisory Panel (AP) meeting will be held via webinar on January 28, 2026 from 12 p.m. until 4 p.m. and January 29, 2026 from 10 a.m. until 2 p.m., EDT.

ADDRESSES:

Council address: South Atlantic Fishery Management Council, 4055 Faber Place Drive, Suite 201, N Charleston, SC 29405.

Meeting Address: The meeting will be held via webinar. Registration is required. Webinar registration, an online public comment form, and briefing book materials will be available 2 weeks prior to the meeting at: https://safmc.net/advisory-panel-meetings/.

FOR FURTHER INFORMATION CONTACT: Kathleen Howington, Habitat and Ecosystem Scientist, Kathleen.howington@safmc.net, phone: 843/725-7580.

SUPPLEMENTARY INFORMATION: The Habitat and Ecosystem AP will discuss revisions to the Council's “Alterations to Riverine, Estuarine and Nearshore Flows Policy” and the integration plan for the prey and predator information from the “Food Webs and Connectivity Policy” into the “User Guide for Essential Fish Habitat”. The AP will also discuss the impact of activities related to space exploration off the Florida coast on habitat (if the information is available). The AP will receive a review of projects that have been commented on by the Habitat Conservation Division of NOAA, and a Citizen Science update from Council staff. The AP will receive an update on the Council's Resilient Fisheries Projects and the Spawning Special Management Zones Working Group report. Finally, the AP will review the 2025 Habitat activities annual report, the Habitat and Ecosystem AP Outreach and Communication Plan, and the Habitat and Ecosystem AP Work Plan. The AP will provide recommendations to the Council on other topics as needed.

Special Accommodations: These meetings are physically accessible to people with disabilities. Requests for auxiliary aid should be directed to the Council office (see ADDRESSES) 5 days prior to the meeting.

Note: The times and sequence specified in this agenda are subject to change.

Authority: 16 U.S.C. 1801 et seq.

Dated: December 29, 2025.
Becky Curtis,
Acting Deputy Director, Office of Sustainable Fisheries, National Marine Fisheries Service.

[FR Doc. 2025-24150 Filed 12-31-25; 8:45 am]

BILLING CODE 3510-22-P